DEPARTMENT OF LABOR

Employment and Training Administration

[TA-W-53,783]

Geotrac, Inc., Norwalk, Ohio; Notice of Negative Determination Regarding Application for Reconsideration

By application dated January 23, 2004, a petitioner requested administrative reconsideration of the Department's negative determination regarding eligibility for workers and former workers of the subject firm to apply for Trade Adjustment Assistance (TAA). The denial notice applicable to workers of Geotrac, Inc., Norwalk, Ohio was signed on January 5, 2004, and published in the Federal Register on February 6, 2004 (69 FR 5866).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition was filed on behalf of a worker at Geotrac, Inc., Norwalk, Ohio engaged in generating flood certifications for the mortgage lending industry. The petition was denied because the petitioning worker did not produce an article within the meaning of Section 222 of the Act.

The petitioner's main allegation consists in the fact that employees of Geotrac, Inc., Norwalk, Ohio were separated as a result of a shift of their positions to India.

In order to meet eligibility requirements, the petitioning worker group must be engaged in production. Automatic generation of certificates for the mortgage lending industry does not constitute production within the meaning of Section 222 of the Trade Act.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 20th day of February, 2004.
Elliott S. Kushner,
Certifying Officer, Division of Trade Adjustment Assistance.

[FR Doc. E4-470 Filed 3-5-04; 8:45 am]

BILLING CODE 4510-13-P